AGENCY FOR INTERNATIONAL DEVELOPMENT

Office of Inspector General; Delegation of Authority and Line of Succession

SUMMARY: This document amends Delegation of Authority No. 14-01, FR Doc. 99-15426, dated May 28, 1999, by realigning the order in which Assistant Inspectors General will act for the line of succession to serve as Acting Inspector General.

EFFECTIVE DATE: September 5, 2004.

FOR FURTHER INFORMATION CONTACT: Paula F. Hayes, (202) 712-0010.

This rule is hereby issued to effect a delegation of authority and provide a line of succession from the Inspector General as follows:

I. Pursuant to the authority vested in me by the Inspector General Act of 1978, as amended, in the event of death, disability, absence, resignation, or removal of the Inspector General, U.S. Agency for International Development, the officials designated below, in the order indicated, and in the absence of the specific designation of another official in writing by the Inspector General or the Acting Inspector General, are hereby authorized to and shall serve as Acting Inspector General. As Acting Inspector General, he/she shall perform the duties and are delegated the full authority and power ascribed to the Inspector General by law and regulation as well as those authorities delegated to the Inspector General by the Administrator, U.S. Agency for International Development:

1. Deputy Inspector General.

2. Assistant Inspector General for Audit.

3. Assistant Inspector General for Management.

4. Assistant Inspector General for Investigations.

II. Anyone designated by the Inspector General as acting in one of the positions listed above remains in the line of succession; otherwise, the authority moves to the next position.

III. This delegation is not in derogation of any authority residing in the above officials relating to the operations of their respective programs, nor does it affect the validity of any delegations currently in force and effect and not specifically cited as revoked or revised herein.

The authorities delegated herein may not be redelegated.

Dated: February 16, 2005.
James R. Ebbitt,
Acting Inspector General.

[FR Doc. 05-3773 Filed 2-25-05; 8:45 am]

BILLING CODE 6116-01-P